DEPARTMENT OF HEALTH AND HUMAN SERVICES

Centers for Disease Control and Prevention

[60Day-16-16CQ; Docket No. CDC-2015-0101]

Proposed Data Collection Submitted for Public Comment and Recommendations

AGENCY: Centers for Disease Control and Prevention (CDC), Department of Health and Human Services (HHS).

ACTION: Notice with comment period.

SUMMARY: The Centers for Disease Control and Prevention (CDC), as part of its continuing efforts to reduce public burden and maximize the utility of government information, invites the general public and other Federal agencies to take this opportunity to comment on proposed and/or continuing information collections, as required by the Paperwork Reduction Act of 1995. This notice invites comment on the “Occupational Health Safety Network (OHSN)” data collection.

DATES: Written comments must be received on or before January 11, 2016.

ADDRESSES: You may submit comments, identified by Docket No. CDC-2015-0101 by any of the following methods:

Federal eRulemaking Portal: Regulation.gov. Follow the instructions for submitting comments.

Mail: Leroy A. Richardson, Information Collection Review Office, Centers for Disease Control and Prevention, 1600 Clifton Road NE., MS-D74, Atlanta, Georgia 30329.

Instructions: All submissions received must include the agency name and Docket Number. All relevant comments received will be posted without change to Regulations.gov, including any personal information provided. For access to the docket to read background documents or comments received, go to Regulations.gov.

Please note: All public comment should be submitted through the Federal eRulemaking portal (Regulations.gov) or by U.S. mail to the address listed above.

FOR FURTHER INFORMATION CONTACT: To request more information on the proposed project or to obtain a copy of the information collection plan and instruments, contact the Information Collection Review Office, Centers for Disease Control and Prevention, 1600 Clifton Road NE., MS-D74, Atlanta, Georgia 30329; phone: 404-639-7570; Email: omb@cdc.gov.

SUPPLEMENTARY INFORMATION:

Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to OMB for approval. To comply with this requirement, we are publishing this notice of a proposed data collection as described below.

Comments are invited on: (a) Whether the proposed collection of information is necessary for the proper performance of the functions of the agency, including whether the information shall have practical utility; (b) the accuracy of the agency's estimate of the burden of the proposed collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

Proposed Project

Occupational Health Safety Network (OHSN)—Existing Information Collection in use Without an OMB Control Number—National Institute for Occupational Safety and Health (NIOSH), Centers for Disease Control and Prevention (CDC).

Background and Brief Description

Healthcare in the United States is a growing industry that employs more than 19 million workers with a substantial burden of occupational injuries and illnesses. In 2013, one in five workers in the healthcare and social assistance industry reported a nonfatal job-related injury. This is the highest number of non-fatal injuries reported among all private industries.

U.S. healthcare facilities depend on surveillance data to track the incidence of injuries, identify risk factors, target prevention activities and evaluate interventions to reduce the occurrence of occupational injury among healthcare personnel. To assist healthcare facilities to enhance capacity to use existing surveillance data, in 2012, the National Institute for Occupational Safety and Health (NIOSH) launched the Occupational Health Safety Network (OHSN), a voluntary surveillance system developed specifically for healthcare personnel environment. OHSN is a free and secure electronic occupational safety and health surveillance system that has provided U.S. healthcare facilities the ability to efficiently analyze their own occupational injury data while, at the same time, serving as a source for national surveillance by sharing their de-identified injury data with NIOSH. Unlike other national occupational surveillance systems, OHSN offers an integrated approach to monitor standard occupational injuries among facility-based healthcare personnel in the U.S. and to provide timely, facility-level feedback to participants with benchmarking and analyses capabilities.

OHSN collects two types of data from participating facilities. Facilities collect these data to meet specific regulatory or administrative requirements. Thus, no new data collection is required. Participating facilities provide OHSN a onetime enrollment. The enrollment form requests information about the participating facility, which is publically available from American Hospital Association. Participating facilities also provide a monthly submission of occupational injury data collected in the previous month. These data are sent to OHSN via a web portal in a format using standardized data elements and value sets. No personal identifiable information is transmitted to OHSN. Data elements include: Injury time, location and surrounding circumstances of each injury event.

Healthcare facilities download data through an OHSN-provided data conversion and mapping tools which uploads the monthly occupational injury data.

Each participating facility has access to the OHSN web portal, facilities are able to analyze current and historical data to benchmark their worker injury rates and trends and compare their data to aggregate data from similar workplaces. In addition they are able to assess the impact of prevention efforts on occupational health and safety over time using aggregated data analysis and visualization tools (charts and graphs).

OHSN currently tracks three common, serious, and preventable categories of traumatic injury to healthcare personnel: Slips, trips and falls; musculoskeletal disorders resulting from patient handling and movement events; and workplace violence. NIOSH proposes to add new modules about exposure to sharps injury and blood and body fluids exposures.

NIOSH analyzes the data submitted to OHSN to conduct occupational health surveillance and to produce periodic aggregate reports on the occurrence of and risk factors for occupational injuries among all OHSN facilities.

OHSN has been operating continuously and receiving voluntary monthly reports from 116 participating facilities since 2012 and is projected to enroll total of 300 facilities in the next 3 years. NIOSH seeks approval for an OMB control number to continue this important work. There is no cost to the respondents other than their time.

Estimated Annualized Burden Hours
Type of respondents | Form name | Number of respondents | Number of responses per respondent | Average burden per response (in hrs.) | Total burden (in hrs.)
U.S. healthcare facilities | Occupational Health Safety Network (OHSN) | 300 | 12 | 3/60 | 180
U.S. healthcare facilities | Enrollment form | 300 | 1 | 1/60 | 5
Total |  |  |  |  | 185

Leroy A. Richardson,
Chief, Information Collection Review Office, Office of Scientific Integrity, Office of the Associate Director for Science, Office of the Director, Centers for Disease Control and Prevention.

[FR Doc. 2015-28474 Filed 11-9-15; 8:45 am]

BILLING CODE 4163-18-P